DEPARTMENT OF ENERGY

Federal Energy Regulatory Commission

Combined Notice of Filings #3

Take notice that the Commission received the following electric rate filings:

Docket Numbers: ER10-2739-040; ER10-1631-024; ER10-1854-024; ER10-1892-027; ER10-2468-006; ER10-2596-018; ER10-2597-008; ER10-2678-024; ER10-2744-025; ER11-113-019; ER11-3320-024; ER11-3321-016; ER11-4694-015; ER12-1680-016; ER12-2200-013; ER13-2316-022; ER14-19-023; ER14-1219-018; ER14-2548-014; ER16-1732-018; ER16-2405-018; ER16-2406-019; ER17-989-017; ER17-990-017; ER17-992-017; ER17-993-017; ER17-1946-017; ER17-1947-010; ER17-2084-009; ER18-95-014; ER19-2557-005; ER20-660-014; ER20-967-007; ER20-1440-010; ER21-44-009; ER22-425-007; ER22-937-006; ER22-938-006; ER22-1241-006; ER23-618-005; ER23-1829-004; ER24-438-003; ER24-671-002; ER24-1687-003; ER24-2139-003; ER24-2920-002; ER25-25-002; ER25-1233-002; ER25-2508-001.

Applicants: LPH Marketing, LLC, Algonquin Energy Services Inc. Hunterstown Generation, LLC, Clearview Solar I, LLC, Capon Bridge Solar, LLC, Carvers Creek LLC, Helix Ravenswood, LLC, Jade Meadow LLC, Shady Oaks Wind 2, LLC, Sandy Ridge Wind 2, LLC,REV Energy Marketing, LLC, New Market Solar ProjectCo 2, LLC, New Market Solar ProjectCo 1, LLC, Enerwise Global Technologies, LLC, Altavista Solar, LLC, Yards Creek Energy, LLC, Great Bay Solar II, LLC, Bolt Energy Marketing, LLC, Missisquoi, LLC, Buchanan Energy Services Company, LLC, Great Bay Solar 1, LLC, Helix Maine Wind Development, LLC, Helix Ironwood, LLC, Bath County Energy, LLC, Springdale Energy, LLC, Gans Energy, LLC, Chambersburg Energy, LLC, Rockford Power, LLC, Rockford Power II, LLC, Aurora Generation, LLC, Ocean State Power, Armstrong Power, LLC, West Deptford Energy, LLC, Seneca Generation, LLC, Mehoopany Wind Energy LLC, Minonk Wind, LLC, GSG 6, LLC, Wallingford Energy LLC, LSP University Park, LLC, Sandy Ridge Wind, LLC, Riverside Generating Company, L.L.C., Troy Energy, LLC, Fowler Ridge III Wind Farm LLC, Fowler Ridge II Wind Farm LLC, Fowler Ridge Wind Farm LLC, Columbia Energy LLC, Doswell Limited Partnership, University Park Energy, LLC, LS Power Marketing, LLC.

Description: Triennial Market Power Analysis for Northeast Region of LS Power Marketing, LLC, et al.

Filed Date: 12/31/25.

Accession Number: 20251231-5508.

Comment Date: 5 p.m. ET 1/21/26.

Docket Numbers: ER19-119-005; ER19-2476-005; ER20-1799-004; ER20-1800-004; ER20-1801-005.

Applicants: Techren Solar V Lectern Solar IV LLC, Techren Solar III LLC, Techren Solar II LLC, Techren Solar I LLC.

Description: Triennial Market Power Analysis for Northwest Region of Techren Solar I LLC, et al.

Filed Date: 12/30/25.

Accession Number: 20251230-5496.

Comment Date: 5 p.m. ET 3/2/26.

Docket Numbers: ER22-941-002; ER13-1816-028; ER19-1044-008; ER20-2717-004; ER22-942-002; ER22-943-002.

Applicants: Wheat Field Wind Power Project LLC, Sagebrush Power Partners, LLC, Crossing Trails Wind Power Project LLC, Telocaset Wind Power Partners, LLC, Sustaining Power Solutions LLC, Arlington Wind Power Project LLC.

Description: Triennial Market Power Analysis for Northwest Region of Arlington Wind Power Project LLC, et al.

Filed Date: 12/31/25.

Accession Number: 20251231-5507.

Comment Date: 5 p.m. ET 3/2/26.

Docket Numbers: ER26-968-000.

Applicants: Midcontinent Independent System Operator, Inc., Ameren Transmission Company of Illinois.

Description: § 205(d) Rate Filing: Ameren Transmission Company of Illinois submits tariff filing per 35.13(a)(2)(iii: 2026-01-07_SA 4045 Termination ATXI-Sikeston Construction Agreement to be effective 3/9/2026.

Filed Date: 1/7/26.

Accession Number: 20260107-5155.

Comment Date: 5 p.m. ET 1/28/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 7, 2026.
Debbie-Anne A. Reese,
Secretary.

[FR Doc. 2026-00398 Filed 1-12-26; 8:45 am]

BILLING CODE 6717-01-P